DEPARTMENT OF ENERGY

Federal Energy Regulatory Commission

Combined Notice of Filings #1

Take notice that the Commission received the following electric corporate filings:

Docket Numbers: EC20-4-000.

Applicants: Tenaska Alabama II Partners, L.P., Alabama Power Company.

Description: Response to February 7, 2020 Data Request, et al. of Tenaska Alabama II Partners, L.P., et al.

Filed Date: 3/9/20.

Accession Number: 20200309-5248.

Comments Due: 5 p.m. ET 3/23/20.

Take notice that the Commission received the following exempt wholesale generator filings:

Docket Numbers: EG20-91-000.

Applicants: Oliver Wind II, LLC.

Description: Notice of Self-Certification of Exempt Wholesale Generator Status of Oliver Wind II, LLC.

Filed Date: 3/6/20.

Accession Number: 20200306-5188.

Comments Due: 5 p.m. ET 3/27/20.

Docket Numbers: EG20-92-000.

Applicants: Anson Solar Center, LLC.

Description: Notice of Self-Certification of Exempt Wholesale Generator Status of Anson Solar Center, LLC.

Filed Date: 3/9/20.

Accession Number: 20200309-5232.

Comments Due: 5 p.m. ET 3/30/20.

Docket Numbers: EG20-93-000.

Applicants: Bluestone Farm Solar, LLC.

Description: Notice of Self-Certification of Exempt Wholesale Generator Status of Bluestone Farm Solar, LLC.

Filed Date: 3/9/20.

Accession Number: 20200309-5233.

Comments Due: 5 p.m. ET 3/30/20.

Docket Numbers: EG20-94-000.

Applicants: Whitehorn Solar LLC.

Description: Notice of Self-Certification of Exempt Wholesale Generator Status of Whitehorn Solar LLC.

Filed Date: 3/9/20.

Accession Number: 20200309-5234.

Comments Due: 5 p.m. ET 3/30/20.

Take notice that the Commission received the following electric rate filings:

Docket Numbers: ER20-319-000.

Applicants: Kimball Wind LLC.

Description: Report Filing: Kimball Wind Refund Report Filing to be effective N/A.

Filed Date: 3/10/20.

Accession Number: 20200310-5001.

Comments Due: 5 p.m. ET 3/31/20.

Docket Numbers: ER20-598-001

Applicants: Midcontinent Independent System Operator, Inc., Duke Energy Indiana, LLC.

Description: Tariff Amendment: 2020-03-09_Duke Indiana Depreciation Rate Deficiency Filing to be effective 2/12/2020.

Filed Date: 3/9/20.

Accession Number: 20200309-5238.

Comments Due: 5 p.m. ET 3/30/20.

Docket Numbers: ER20-838-001.

Applicants: Duke Energy Ohio, Inc., American Electric Power Service Corporation.

Description: Tariff Amendment: DEO-AEP Amendment to Amended IA (PJM SA No. 1491) to be effective 12/21/2019.

Filed Date: 3/10/20.

Accession Number: 20200310-5061.

Comments Due: 5 p.m. ET 3/31/20.

Docket Numbers: ER20-864-001.

Applicants: Midcontinent Independent System Operator, Inc.

Description: Tariff Amendment: 2020-03-10_SA 3413 Ameren IL-Cass County Solar Project Substitute GIA (J859) to be effective 1/8/2020.

Filed Date: 3/10/20.

Accession Number: 20200310-5053.

Comments Due: 5 p.m. ET 3/31/20.

Docket Numbers: ER20-932-001.

Applicants: Tri-State Generation and Transmission Association, Inc.

Description: Tariff Amendment: Filing of Executed Service Agreement No 106 Between Tri-State and ARPA to be effective 1/10/2020.

Filed Date: 3/10/20.

Accession Number: 20200310-5084.

Comments Due: 5 p.m. ET 3/31/20.

Docket Numbers: ER20-1211-000.

Applicants: Midcontinent Independent System Operator, Inc.

Description: § 205(d) Rate Filing: 2020-03-09_Attachment X, Appendix 1 Online Application Tool Enablement to be effective 5/9/2020.

Filed Date: 3/9/20.

Accession Number: 20200309-5209.

Comments Due: 5 p.m. ET 3/30/20.

Docket Numbers: ER20-1214-000.

Applicants: CHPE, LLC.

Description: Application for Authority to Sell Transmission Rights at Negotiated Rates of CHPE, LLC.

Filed Date: 3/9/20.

Accession Number: 20200309-5250.

Comments Due: 5 p.m. ET 3/30/20.

Docket Numbers: ER20-1215-000.

Applicants: Nevada Power Company, Sierra Pacific Power Company.

Description: Petition for Limited Waiver of Tariff Provision and Motion for Expedited Consideration of Nevada Power Company, et al.

Filed Date: 3/9/20.

Accession Number: 20200309-5251.

Comments Due: 5 p.m. ET 3/13/20.

Docket Numbers: ER20-1216-000.

Applicants: PJM Interconnection, L.L.C.

Description: Tariff Cancellation: Notice of Cancellation of WMPA, SA No. 2033, Queue No. N07 re: Breach to be effective 3/10/2020.

Filed Date: 3/10/20.

Accession Number: 20200310-5091.

Comments Due: 5 p.m. ET 3/31/20.

Docket Numbers: ER20-1218-000.

Applicants: Tri-State Generation and Transmission Association, Inc.

Description: § 205(d) Rate Filing: Filing of Rate Schedule FERC No. 269 between Tri-State and YWEA to be effective 3/11/2020.

Filed Date: 3/10/20.

Accession Number: 20200310-5105.

Comments Due: 5 p.m. ET 3/31/20.

Docket Numbers: ER20-1219-000.

Applicants: Peetz Table Wind, LLC.

Description: Baseline eTariff Filing: Peetz Table Wind, LLC Application for MBR Authority to be effective 5/10/2020.

Filed Date: 3/10/20.

Accession Number: 20200310-5116.

Comments Due: 5 p.m. ET 3/31/20.

Docket Numbers: ER20-1220-000.

Applicants: Oliver Wind II, LLC.

Description: Baseline eTariff Filing: Oliver Wind II, LLC Application for MBR Authority to be effective 5/10/2020.

Filed Date: 3/10/20.

Accession Number: 20200310-5117.

Comments Due: 5 p.m. ET 3/31/20.

Docket Numbers: ER20-1221-000.

Applicants: The Connecticut Light and Power Company.

Description: Tariff Cancellation: Cancellation of CPV Towantic LLC to be effective 2/26/2020.

Filed Date: 3/10/20.

Accession Number: 20200310-5121.

Comments Due: 5 p.m. ET 3/31/20.

Docket Numbers: ER20-1222-000.

Applicants: Public Service Company of Oklahoma.

Description: § 205(d) Rate Filing: PSO-WFEC Wardville Delivery Point Agreement Cancellation to be effective 5/11/2020.

Filed Date: 3/10/20.

Accession Number: 20200310-5138.

Comments Due: 5 p.m. ET 3/31/20.

Take notice that the Commission received the following public utility holding company filings:

Docket Numbers: PH20-7-000.

Applicants: Atlas Capital GP LP, Atlas Capital Resources (P) LP, Greenidge Generation Holdings LLC.

Description: Atlas Capital GP LP, et al. submits FERC 65-A Exemption Notification.

Filed Date: 3/9/20.

Accession Number: 20200309-5263.

Comments Due: 5 p.m. ET 3/30/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2020.
Nathaniel J. Davis, Sr.,
Deputy Secretary.

[FR Doc. 2020-05309 Filed 3-13-20; 8:45 am]

BILLING CODE 6717-01-P